DEPARTMENT OF ENERGY

Federal Energy Regulatory Commission

[Docket Nos. RP00-405-001 and RP00-617-002]

Gulf States Transmission Corporation; Notice of Compliance Filing

September 5, 2001.

Take notice that on August 29, 2001, Gulf States Transmission Corporation (Gulf States), tendered for filing as part of its FERC Gas Tariff, Original Volume No. 1 the revised tariff sheets listed in Appendix A to the filing. Gulf States requests that the foregoing tariff sheets be made effective October 1, 2001.

Gulf States states that these sheets are being filed to comply with the Federal Energy Regulatory Commission's July 30, 2001 Order regarding Gulf States' Order No. 637 compliance filing.

Any person desiring to protest said filing should file a protest with the Federal Energy Regulatory Commission, 888 First Street, N.E., Washington, D.C. 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22725 Filed 9-10-01; 8:45 am]

BILLING CODE 6717-01-P